DEPARTMENT OF HOUSING AND URBAN DEVELOPMENT

[Docket No. FR-5997-N-16]

30-Day Notice of Proposed Information Collection: Affirmative Fair Housing Marketing Plan

AGENCY: Office of the Chief Information Officer, HUD.

ACTION: Notice.

SUMMARY: This notice solicits public comment for a period of 30 days, consistent with the Paperwork Reduction Act of 1995 (PRA), on the Affirmative Fair Housing Marketing Plan (AFHMP) forms. On December 5, 2016, HUD solicited public comment for a period of 60 days on the AFHMP forms. The 60-day notice commenced the notice and comment process required by the PRA in order to obtain approval from the Office of Management and Budget (OMB) for the information proposed to be collected by the AFHMP forms. This 30-day notice takes into consideration the public comment received in response to the 60-day notice, and completes the public comment process required by the PRA. With the issuance of this notice, and following consideration of additional public comments received in response to this notice, HUD is complying with the PRA renewal requirements, and the forms will undergo the public comment process every 3 years to retain OMB approval.

DATES: Comment Due Date: August 7, 2017.

ADDRESSES: Interested persons are invited to submit comments regarding this proposal. Comments should refer to the proposal by name and/or OMB Control Number and should be sent to: HUD Desk Officer, Office of Management and Budget, New Executive Office Building, Washington, DC 20503; fax: 202-395-5806. Email: OIRA Submission @omb.eop.gov.

FOR FURTHER INFORMATION CONTACT: Inez.C.Downs@hud.gov or telephone 202-402-8046. This not a toll-free number. Person with hearing or speech impairments may access this number through TTY by calling the toll-free Federal Relay Service at (800) 877-8339.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Comments should follow the instructions provided on that site to submit comments electronically.

Note: To receive consideration as public comments, comments must be submitted through one of the two methods specified above. Again, all submissions must refer to the docket number and title of the notice.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling QDAM at 202-402-3400 (this is not a toll free number). Individuals who are deaf or hard of hearing and individuals with speech impairments may access this number via TTY by calling the toll-free Federal Relay Service at (800) 877-8339. Copies of all comments submitted are available for inspection and downloading at www.regulations.gov.

SUPPLEMENTARY INFORMATION:

The 60-Day Notice for the AFHMP Forms

On December 5, 2016, at 81 FR 87581, HUD published its 60-day notice, the first notice for public comment required by the PRA, to commence the process for renewal of the AFHMP Forms. The 60-day public comment period ended on February 3, 2017, and HUD received one public comment. The following section, Section A, responds to the issues raised by the public commenter, and Section B provides HUD's estimation of the burden hours associated with the AFHMP forms, and further solicits issues for public comment which are required to be solicited by the PRA.

Submission Requirements

Under the AFHM Regulations (24 CFR part 200, subpart M), all applicants for participation in Federal Housing Administration (FHA) subsidized and unsubsidized housing programs that involve the development or rehabilitation of multifamily projects or manufactured home parks of five or more lots, units, or spaces must submit an AFHM Plan on a prescribed form. In addition, all applicants for participation in FHA subsidized and unsubsidized housing programs that involve the development or rehabilitation of single family housing or condominium or cooperative units that intend to sell five or more properties in the next year, or sold five or more properties in the past year, and where a lender is submitting initial applications for HUD mortgage insurance, must submit one of several agreements or statements, among which is an AFHM Plan on a prescribed form.

A. Public Comment on the AFHMP Forms and HUD's Responses

Comments

The commenter stated that the single-family form 935.2B is ineffective because the form cannot be used for activities occurring outside of a fixed census tract. The commenter suggests that the form be revised to contemplate activities that offer tenants a choice in housing location such as Tenant Based Rental Assistance or down payment assistance. The commenter further stated that the AFHMP forms should include the 16 racial categories reported to HUD as required by the Housing and Economic Recovery Act of 2008.

HUD response: HUD appreciates the commenter's views and input. HUD notes that the forms were not intended for use for tenant-based rental assistance and down payment assistance programs and declines to make revisions to allow for the use of the forms for such programs at this time. In regard to the commenter's concern that the form does not include all 16 racial categories that are reported to HUD under other programs, HUD notes that the form includes the five minimum racial categories required by OMB for the collection and presentation of federal data on race. The Department declines to add the additional racial categories at this time.

B. Overview of Information Collection

Under the PRA, HUD is required to report the following:

Title of Information Collection: Affirmative Fair Housing Marketing Plan.

OMB Approval Number: 2529-0013.

Type of Request: Reinstatement without change, of previously approved collection for which approval has expired.

Form Number: HUD-935.2A, 935.2B, 935.2C.

Description of the need for the information and proposed use: The Department of Housing and Urban Development (HUD) is requesting that the Office of Management and Budget (OMB) approve the extension of forms: HUD-935.2A Affirmative Fair Housing Marketing Plan—Multifamily Housing, HUD-935.2B Affirmative Fair Housing Marketing Plan—Single Family Housing, and HUD-935.2C Affirmative Fair Housing Marketing Plan—Condominiums or Cooperatives. These forms assist HUD in fulfilling its duty under the Fair Housing Act to administer its programs and activities relating to housing and urban development in a manner that affirmatively furthers fair housing, by promoting a condition in which individuals of similar income levels in the same housing market area have available to them a like range of housing choices, regardless of race, color, national origin, religion, sex, disability, or familial status. This collection also promotes compliance with Executive Order 11063, which requires Federal agencies to take all necessary and appropriate action to prevent discrimination in federally insured and subsidized housing. Under the AFHM Regulations (24 CFR part 200, subpart M), all applicants for participation in Federal Housing Administration (FHA) subsidized and unsubsidized housing programs that involve the development or rehabilitation of multifamily projects or manufactured home parks of five or more lots, units, or spaces must submit an AFHM Plan on a prescribed form. In addition, all applicants for participation in FHA subsidized and unsubsidized housing programs that involve the development or rehabilitation of single family housing or condominium or cooperative units that intend to sell five or more properties in the next year, or sold five or more properties in the past year, and where a lender is submitting initial applications for HUD mortgage insurance, must submit one of several agreements or statements, among which is an AFHM Plan on a prescribed form. If this information was not collected, it would prevent HUD from ensuring compliance with affirmative fair housing marketing requirements.

Respondents: Applicants for FHA subsidized and unsubsidized housing programs.

Estimated Number of Respondents: 8,080 (HUD 935.2A: On an annual basis, there are approximately 300 respondents that submit new plans, 4,030 respondents that review their existing plans and submit updated plans, and 3,720 respondents that review their existing plans, but are not required to submit updated plans. HUD 935.2.B & C: On an annual basis, there are approximately 30 respondents that submit new plans.)

Estimated Number of Responses: 8,080.

Frequency of Response: 1 per annum.

Average Hours per Response: The average hours per response is 3.16 hours. (For the HUD-935.2A, the hours per response are: 6 hours (new plans), 4 hours (review and update plans), and 2 hours (review of existing plans only). For the 935.2B & C, the hours per response is 6 hours).

Total Estimated Burdens: 25,540 hours.

Information collection | Number of respondents | Frequency of response | Responses per annum | Burden hour per response | Annual burden hours | Hourly cost per response | Annual cost
HUD-935.2A (MFH) | 8,050 | 1 | 8,050 | New 6 × 300 | New 1,800 | Respondents: | Respondents:
|  |  |  | Review Only 2 × 3,720 | Reviews Only 7,440 | $35/hour (professional work) | New = ($35 × 4 × 300) + ($16 × 2 × 300) = $51,600.
|  |  |  | Review & Update 4 × 4,030 | Review & Update 16,120 | $16/hour (clerical work) | Reviews = ($35 × 2 × 3,720) = $260,400.
|  |  |  |  |  | $1.25 per report mailing | Updates = ($35 × 2 × 4,030) + ($16 × 2 × $4,030) = $411,060.
|  |  |  |  |  |  | Mailing Costs = $1.25 × 4,330 = $5,412.50.
|  |  |  |  |  |  | Annual Cost = $51,600 + $260,400 + $411,060 + $5,412.50 = $728,472.50.
|  |  |  |  |  | Government: | Government:
|  |  |  |  |  | $38.56/hour ¹ (professional work). | New = ($38.56 × 3 × 300) + ($17.55 × 0.5 × 300) = $37,336.50.
|  |  |  |  |  | $17.55/hour ² (clerical work) | Reviews & Updates = ($38.56 × 3 × 4,030) + ($17.55 × 0.5 × $4,030) = $501,553.65.
|  |  |  |  |  |  | Annual Cost = $37,336.50 + $501,553.65 = $538,890.15.
HUD-935.2B (SFH) & C (Condos and Co-Ops) | 30 | 1 | 30 | 6 | 180 | Respondents: | Respondents:
|  |  |  |  |  | $35/hour (professional work) | ($35 × 4 × 30) + ($16 × 2 × 30) = $5,160.
|  |  |  |  |  | $16/hour (clerical work) | $1.25 × 30 = $37.50.
|  |  |  |  |  | $1.25 per report mailing | Annual Cost = $5,160 + $37.50 = $5,197.50.
|  |  |  |  |  | Government: | Government:
|  |  |  |  |  | $38.56/hour (professional work) | Annual Cost = ($38.56 × 3 × 30) + ($17.55 × 0.5 × 30) = $3,733.65.
|  |  |  |  |  | $17.55/hour (clerical work)
Total | 8,080 | 1 each | 8,080 | Avg. of 3.16 | 25,540 | Avg. of $28.73 | Respondents: $733,670.
|  |  |  |  |  |  | Government: $542,623.80.

¹ Rate for GS 12 Step 5 ($38.56/hour) based on the salary information available on OPM.gov.

² Rate for GS 5 step 5 ($17.55/hour) based on the salary information available on OPM.gov.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comment in response to these questions.

Authority: Section 3507 of the Paperwork Reduction Act of 1995, 44 U.S.C. Chapter 35.

Dated: July 3, 2017.
Inez C. Downs,
Department Reports Management Officer, Office of the Chief Information Officer.

[FR Doc. 2017-14289 Filed 7-6-17; 8:45 am]

BILLING CODE 4210-67-P